DEPARTMENT OF THE INTERIOR

Bureau of Land Management

[LLWO320000.17X.19900000.PO0000; OMB Control Number 1004-0169]

Agency Information Collection Activities; Submission to the Office of Management and Budget for Review and Approval; Use and Occupancy Under the Mining Laws

AGENCY: Bureau of Land Management, Interior.

ACTION: Notice of information collection; request for comment.

SUMMARY: In accordance with the Paperwork Reduction Act of 1995, we, the Bureau of Land Management (BLM), are proposing to renew a control number with revisions.

DATES: Interested persons are invited to submit comments on or before February 21, 2018.

ADDRESSES: Send written comments on this information collection request (ICR) to the Office of Management and Budget's Desk Officer for the Department of the Interior by email at OIRA_Submission@omb.eop.gov; or via facsimile to (202) 395-5806. Please provide a copy of your comments to U.S. Department of the Interior, Bureau of Land Management, 1849 C Street NW, Room 2134LM, Attention: Jean Sonneman, Washington, DC 20240 or by email to Jean_Sonneman@blm.gov.

Please reference OMB Control Number 1004-0169 in the subject line of your comments.

FOR FURTHER INFORMATION CONTACT: Adam Merrill by email at amerrill@blm.gov, or by telephone at 202-912-7044. Persons who use a telecommunications device for the deaf (TDD) may call the Federal Relay Service (FRS) at 1-800-877-8339 to contact the above individual during normal business hours. The FRS is available 24 hours a day, 7 days a week, to leave a message or question with the above individual. You will receive a reply during normal business hours. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this ICR was published on November 15, 2017 (82 FR 52938). The comment period ended on January 16, 2018. No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This collection of information is necessary to manage the use and occupancy of unpatented public lands for the purpose of developing locatable mineral deposits under the Mining Laws.

Title of Collection: Use and Occupancy under the Mining Laws.

OMB Control Number: 1004-0169.

Form Number: None.

Type of Review: Extension of a currently approved collection.

Respondents/Affected Public: Mining claimants and operators of prospecting, exploration, mining and processing operations.

Total Estimated Number of Annual Respondents: 70.

Total Estimated Number of Annual Responses: 70.

Estimated Completion Time per Response: 4 hours.

Total Estimated Number of Annual Burden Hours: 280.

Respondent's Obligation: Required to obtain or retain a benefit.

Frequency of Collection: On occasion.

Total Estimated Annual Nonhour Burden Cost: None.

Type of response | Number of responses | Time per response (hours) | Total hours (Column B × Column C)
A | B | C | D
Proposed occupancy 43 CFR 3715.3-2 | 60 | 4 | 240
Existing use or occupancy 43 CFR 3715.4 | 10 | 4 | 40
Totals | 70 |  | 280

An agency may not conduct or sponsor—and a person is not required to respond to—a collection of information unless it displays a currently valid OMB control number.

The authority for this action is the Paperwork Reduction Act of 1995 (44 U.S.C. 3501 et seq).

Jean Sonneman
Information Collection Clearance Officer.

[FR Doc. 2018-01063 Filed 1-19-18; 8:45 am]

BILLING CODE 4310-84-P